Memorandum of July 8, 2004

Delegation of Responsibility under Section 1523 of the Strom Thurmond National Defense Authorization Act for Fiscal Year 1999, As Amended

Memorandum for the Secretary of State

By virtue of the authority vested in me by the Constitution and laws of the United States of America, including section 301 of title 3, United States Code, I hereby delegate to you the functions conferred upon the President by section 1523 of the Strom Thurmond National Defense Authorization Act for Fiscal Year 1999 (Public Law 105-261), as amended (the “Act”).

Any reference in this memorandum to the provision of any Act shall be deemed to include references to any hereafter-enacted provision of law that is the same or substantially the same as such provision.

You are authorized and directed to publish this memorandum in the Federal Register.

B

THE WHITE HOUSE,

Washington, July 8, 2004.

[FR Doc. 04-16756

Filed 7-20-04; 8:45 am]

Billing code 4710-10-P